ENVIRONMENTAL PROTECTION AGENCY

[FRL-9961-75-Region 6]

Adequacy Status of the Houston-Galveston-Brazoria, Texas Reasonable Further Progress 8-Hour Ozone Motor Vehicle Emission Budgets for Transportation Conformity Purposes

AGENCY: Environmental Protection Agency (EPA).

ACTION: Notice of adequacy.

SUMMARY: The Environmental Protection Agency (EPA) is notifying the public that it has found that the motor vehicle emissions budgets (MVEBs) in the Houston-Galveston-Brazoria, Texas (HGB) Reasonable Further Progress (RFP) State Implementation Plan (SIP) revision for the 2008 8-hour ozone National Ambient Air Quality Standard (NAAQS), submitted on December 29, 2016 by the Texas Commission on Environmental Quality (TCEQ) are adequate for transportation conformity purposes. As a result of EPA's finding, the HGB area must use these budgets for future conformity determinations.

DATES: These budgets are effective June 21, 2017.

FOR FURTHER INFORMATION CONTACT: The essential information in this notice will be available at EPA's conformity Web site: https://www.epa.gov/state-and-local-transportation/adequacy-review-state-implementation-plan-sip-submissions-conformity. You may also contact Mr. Jeffrey Riley, State Implementation Section (6MM-AA), U.S. Environmental Protection Agency, Region 6, 1445 Ross Avenue, Dallas, Texas 75202-2733, (214) 665-8542 or Riley.Jeffrey@epa.gov.

SUPPLEMENTARY INFORMATION: Throughout this document “we,” “us,” and “our” refers to EPA. The word “budget(s)” refers to the mobile source emissions budget for volatile organic compounds (VOCs) and the mobile source emissions budget for nitrogen oxides (NOX).

On December 29, 2016, we received a SIP revision from the TCEQ. This revision consisted of an RFP SIP for the HGB 2008 8-hour ozone NAAQS nonattainment area. This submission established MVEBs for the HGB 2008 ozone nonattainment area for the year 2017. The MVEB is the amount of emissions allowed in the SIP for on-road motor vehicles; it establishes an emissions ceiling for the HGB area regional transportation network, used to develop the 2017 on-road motor vehicle emissions projections contained in the RFP SIP. The MVEBs are provided in Table 1:

Table 1—Houston-Galveston-Brazoria Reasonable Further Progress NOX and VOC MVEBS
[Summer ozone season tons per day]
Ozone Precursor | 2017 MVEB
NOX | 121.81
VOC | 68.04

On January 18, 2017, EPA posted the revised HGB area MVEBs on EPA's Web site for the purpose of soliciting public comments, as part of the adequacy process. The comment period closed on February 17, 2017, and we received no comments.

Today's notice is simply an announcement of a finding that EPA has already made. EPA Region 6 sent a letter to TCEQ on April 28, 2017, finding that the MVEBs in the HGB RFP SIP, submitted on December 29, 2016 are adequate and must be used for transportation conformity determinations in the HGB area. This finding has also been announced on EPA's conformity Web site: https://www.epa.gov/state-and-local-transportation/adequacy-review-state-implementation-plan-sip-submissions-conformity.

Transportation conformity is required by section 176(c) of the Clean Air Act. EPA's conformity rule, 40 Code of Federal Regulations (CFR) part 93, requires that transportation plans, programs and projects conform to state air quality implementation plans and establishes the criteria and procedures for determining whether or not they do so. Conformity to a SIP means that transportation activities will not produce new air quality violations, worsen existing violations, or delay timely attainment of the national ambient air quality standards.

The criteria by which EPA determines whether a SIP's MVEB is adequate for transportation conformity purposes are outlined in 40 CFR 93.118(e)(4). We have also described the process for determining the adequacy of submitted SIP budgets in our July 1, 2004, final rulemaking entitled, “Transportation Conformity Rule Amendments for the New 8-hour Ozone and PM2.5 National Ambient Air Quality Standards and Miscellaneous Revisions for Existing Areas; Transportation Conformity Rule Amendments: Response to Court Decision and Additional Rule Changes” See 69 FR 40004 (July 1, 2004). Please note that an adequacy review is separate from EPA's SIP completeness review, and it should not be used to prejudge EPA's ultimate action on the HGB 2008 8-hour ozone NAAQS RFP SIP revision submittal. Even if EPA finds the budgets adequate in this action, we will undertake a separate review and action on the RFP SIP revision that will determine the approvability of the SIP revision.

Within 24 months from the effective date of this notice, the HGB-area transportation partners, such as the Houston-Galveston Area Council, will need to demonstrate conformity to the new MVEBs if the demonstration has not already been made, pursuant to 40 CFR 93.104(e). See 73 FR 4419 (January 24, 2008).

Authority: 42 U.S.C. 7401 et seq.

Dated: April 28, 2017.
Samuel Coleman,
Acting Regional Administrator, Region 6.

[FR Doc. 2017-11602 Filed 6-5-17; 8:45 am]

BILLING CODE 6560-50-P